DEPARTMENT OF EDUCATION

34 CFR Part 361

State Vocational Rehabilitation Services Program; Delay of Implementation Date

AGENCY: Department of Education.

ACTION: Final regulations; delay of implementation date.

SUMMARY: In accordance with the memorandum of January 20, 2001, from the Assistant to the President and Chief of Staff, entitled “Regulatory Review Plan,” this regulation amends the implementation date of the regulations entitled State Vocational Rehabilitation Services Program published in the Federal Register on January 22, 2001 (66 FR 7250) with respect to the voluntary implementation of the regulations by States prior to the effective date of the regulations.

EFFECTIVE DATE: The effective date of the regulations amending 34 CFR Part 361 published at 66 FR 7250, January 22, 2001, continues to be October 1, 2001, unless amended as a result of the review of these regulations.

Implementation Date: These regulations may be implemented by States April 3, 2001.

FOR FURTHER INFORMATION CONTACT: Kenneth C. Depew, Acting Assistant General Counsel for Regulations, Office of the General Counsel, U.S. Department of Education, 400 Maryland Avenue, SW., room 6E227, FB-6, Washington, DC 20202-2241. Telephone: (202) 401-8300.

If you use a telecommunications device for the deaf (TDD), you may call the Federal Information Relay Service (FIRS) at 1-800-877-8339.

Dated: January 25, 2001.
Rod Paige,
Secretary of Education.

[FR Doc. 01-2780 Filed 2-1-01; 8:45 am]

BILLING CODE 4000-01-P